DEPARTMENT OF THE TREASURY

Internal Revenue Service

Open Meeting of the Communications Committee of the Taxpayer Advocacy Panel

AGENCY: Internal Revenue Service (IRS), Treasury.

ACTION: Notice of meeting.

SUMMARY: An open meeting of the Communications Committee of the Taxpayer Advocacy Panel will be conducted via a telephone conference call. The Taxpayer Advocacy Panel is soliciting public comment, ideas, and suggestions on improving customer service at the Internal Revenue Service.

DATES: The meeting will be held Thursday, October 15, 2009.

FOR FURTHER INFORMATION CONTACT: Patricia Robb at 1-888-912-1227, or (414) 231-2360.

SUPPLEMENTARY INFORMATION: Notice is hereby given pursuant to Section 10(a)(2) of the Federal Advisory Committee Act, 5 U.S.C. App. (1988) that a meeting of the Communications Committee of the Taxpayer Advocacy Panel will be held Thursday, October 15, 2009, at 11 a.m. Central Time via a telephone conference call. You can submit written comments to the panel by faxing to (414) 231-2363, or by mail to Taxpayer Advocacy Panel, Stop 1006MIL, 211 West Wisconsin Avenue, Milwaukee, WI 53203-2221, or you can contact us at http://www.improveirs.org. Please contact Patricia Robb at 1-888-912-1227 or (414) 231-2360 for dial-in information.

The agenda will include various IRS issues.

Dated: September 21, 2009.
Shawn F. Collins,
Acting Director, Taxpayer Advocacy Panel.

[FR Doc. E9-23160 Filed 9-24-09; 8:45 am]

BILLING CODE 4830-01-P